DEPARTMENT OF ENERGY

Federal Energy Regulatory Commission

Combined Notice of Filings #2

January 18, 2011.

Take notice that the Commission received the following electric rate filings:

Docket Numbers: ER96-719-028; ER97-2801-030; ER99-2156-021; ER07-1236-005.

Applicants: MidAmerican Energy Company; PacifiCorp; Cordova Energy Company LLC; Yuma Cogeneration Associates.

Description: Supplement to Triennial Market Power Update of PacifiCorp, et al.

Filed Date: 01/14/2011.

Accession Number: 20110114-5172.

Comment Date: 5 p.m. Eastern Time on Friday, February 04, 2011.

Docket Numbers: ER98-411-018.

Applicants: Wolverine Power Supply Cooperative, Inc.

Description: Notification of Change in Status of Wolverine Power Supply Cooperative, Inc.

Filed Date: 01/13/2011.

Accession Number: 20110113-5142.

Comment Date: 5 p.m. Eastern Time on Thursday, February 03, 2011.

Docket Numbers: ER01-1822-008.

Applicants: Indigo Generation LLC, Larkspur Energy LLC, Wildflower Energy LP.

Description: Report change in status of DGC Companies.

Filed Date: 01/14/2011.

Accession Number: 20110114-5258.

Comment Date: 5 p.m. Eastern Time on Friday, February 04, 2011.

Docket Numbers: ER10-1556-002.

Applicants: Longview Power.

Description: Notice of Change in Status of Longview Power, LLC.

Filed Date: 01/18/2011.

Accession Number: 20110118-5240.

Comment Date: 5 p.m. Eastern Time on Tuesday, February 08, 2011.

Docket Numbers: ER10-2924-001.

Applicants: Kleen Energy Systems, LLC.

Description: Kleen Energy Systems, LLC submits tariff filing per 35: Kleen Energy MBR ETariff to be effective 9/24/2010.

Filed Date: 01/13/2011.

Accession Number: 20110113-5153.

Comment Date: 5 p.m. Eastern Time on Thursday, February 03, 2011.

Docket Numbers: ER10-2989-002.

Applicants: Solios Power Trading LLC.

Description: Solios Power Trading LLC submits tariff filing per 35: Solios Power Trading ETariff to be effective 9/27/2010.

Filed Date: 01/13/2011.

Accession Number: 20110113-5157.

Comment Date: 5 p.m. Eastern Time on Thursday, February 03, 2011.

Docket Numbers: ER10-2991-002.

Applicants: Solios Power Mid-Atlantic Trading, LLC.

Description: Solios Power Mid-Atlantic Trading, LLC submits tariff filing per 35: Solios Power Mid-Atlantic MBR Tariff to be effective 9/27/2010.

Filed Date: 01/13/2011.

Accession Number: 20110113-5156.

Comment Date: 5 p.m. Eastern Time on Thursday, February 03, 2011.

Docket Numbers: ER10-2993-002.

Applicants: Solios Power Midwest Trading LLC.

Description: Solios Power Midwest Trading LLC submits tariff filing per 35: Solios Power Midwest ETariff to be effective 9/27/2010.

Filed Date: 01/13/2011.

Accession Number: 20110113-5160.

Comment Date: 5 p.m. Eastern Time on Thursday, February 03, 2011.

Docket Numbers: ER10-3013-001.

Applicants: Star Point Wind Project LLC.

Description: Star Point Wind Project LLC submits tariff filing per 35: Compliance Filing to Baseline MBR Tariff to be effective 9/27/2010.

Filed Date: 12/14/2010.

Accession Number: 20101214-5151.

Comment Date: 5 p.m. Eastern Time on Tuesday, February 08, 2011.

Docket Numbers: ER10-3260-001.

Applicants: Granite Ridge Energy, LLC.

Description: Granite Ridge Energy, LLC submits tariff filing per 35: Compliance Filing to be effective 9/30/2010.

Filed Date: 01/14/2011.

Accession Number: 20110114-5217.

Comment Date: 5 p.m. Eastern Time on Friday, February 04, 2011.

Docket Numbers: ER10-3299-001.

Applicants: New Athens Generating Company, LLC.

Description: New Athens Generating Company, LLC submits tariff filing per 35: Compliance Filing to be effective 9/30/2010.

Filed Date: 01/14/2011.

Accession Number: 20110114-5076.

Comment Date: 5 p.m. Eastern Time on Friday, February 04, 2011.

Docket Numbers: ER10-3286-002.

Applicants: Millennium Power Partners, L.P.

Description: Millennium Power Partners, L.P. submits tariff filing per 35: Compliance Filing to be effective 9/30/2010.

Filed Date: 01/13/2011.

Accession Number: 20110113-5099.

Comment Date: 5 p.m. Eastern Time on Thursday, February 03, 2011.

Docket Numbers: ER10-3310-001.

Applicants: New Harquahala Generating Company, LLC.

Description: New Harquahala Generating Company, LLC submits tariff filing per 35: Compliance Filing to be effective 9/30/2010.

Filed Date: 01/14/2011.

Accession Number: 20110114-5091.

Comment Date: 5 p.m. Eastern Time on Friday, February 04, 2011.

Docket Numbers: ER11-40-003.

Applicants: Arizona Public Service Company.

Description: Arizona Public Service Company submits tariff filing per 35: Rate Schedule No. 217 Compliance Filing to be effective 10/6/2010.

Filed Date: 01/14/2011.

Accession Number: 20110114-5166.

Comment Date: 5 p.m. Eastern Time on Friday, February 04, 2011.

Docket Numbers: ER11-1828-002.

Applicants: Maine Public Service Company.

Description: Maine Public Service Company submits tariff filing per 35: Compliance to Interconnection Agreement Filing in ER11-1828 to be effective 9/29/2010.

Filed Date: 01/14/2011.

Accession Number: 20110114-5143.

Comment Date: 5 p.m. Eastern Time on Friday, February 04, 2011.

Docket Numbers: ER11-1952-001.

Applicants: Southern California Edison Company.

Description: Southern California Edison Company submits tariff filing per 35: 2011 CWIP Update Compliance Filing to be effective 1/1/2011.

Filed Date: 01/18/2011.

Accession Number: 20110118-5209.

Comment Date: 5 p.m. Eastern Time on Tuesday, February 08, 2011.

Docket Numbers: ER11-1975-001.

Applicants: New York Independent System Operator, Inc.

Description: New York Independent System Operator, Inc. submits tariff filing per 35: Compliance Filing—Resubmittal of Record for Correct Display in eTariff to be effective 10/15/2010.

Filed Date: 01/14/2011.

Accession Number: 20110114-5054.

Comment Date: 5 p.m. Eastern Time on Friday, February 04, 2011.

Docket Numbers: ER11-2062-001.

Applicants: Energy Plus Holdings LLC.

Description: Energy Plus Holdings LLC submits tariff filing per 35: Baseline 714 compliance to be effective 1/11/2011.

Filed Date: 01/14/2011.

Accession Number: 20110114-5034.

Comment Date: 5 p.m. Eastern Time on Friday, February 04, 2011.

Docket Numbers: ER11-2120-001.

Applicants: Arizona Public Service Company.

Description: Arizona Public Service Company submits tariff filing per 35: Compliance Filing of Rate Schedule No. 217 to be effective 11/12/2010.

Filed Date: 01/14/2011.

Accession Number: 20110114-5189.

Comment Date: 5 p.m. Eastern Time on Friday, February 04, 2011.

Docket Numbers: ER11-2153-001.

Applicants: PacifiCorp.

Description: PacifiCorp submits tariff filing per 35.17(b): BPA Cooperative Communications Agreement Amended Filing to be effective 10/1/2010.

Filed Date: 01/12/2011.

Accession Number: 20110112-5090.

Comment Date: 5 p.m. Eastern Time on Wednesday, February 02, 2011.

Docket Numbers: ER11-2195-001.

Applicants: Midwest Independent Transmission System Operator, Inc.

Description: Midwest Independent Transmission System Operator, Inc. submits tariff filing per 35.17(b): R23 Amendment (2) to be effective 11/30/2010.

Filed Date: 01/12/2011.

Accession Number: 20110112-5059.

Comment Date: 5 p.m. Eastern Time on Wednesday, February 02, 2011.

Docket Numbers: ER11-2334-007.

Applicants: Midwest Independent Transmission System Operator, Inc.

Description: Midwest Independent Transmission System Operator, Inc. submits tariff filing per 35.17(b): Part 8, ATC Succession (2) to be effective 2/9/2011.

Filed Date: 01/14/2011.

Accession Number: 20110114-5063.

Comment Date: 5 p.m. Eastern Time on Friday, February 04, 2011.

Docket Numbers: ER11-2359-001.

Applicants: Midwest Independent Transmission System Operator, Inc.

Description: Midwest Independent Transmission System Operator, Inc. submits tariff filing per 35.17(b): CapX-Bemidji-Otter Tail Amendment to be effective 12/15/2010.

Filed Date: 01/18/2011.

Accession Number: 20110118-5156.

Comment Date: 5 p.m. Eastern Time on Tuesday, February 08, 2011.

Docket Numbers: ER11-2360-001.

Applicants: Midwest Independent Transmission System Operator, Inc.

Description: Midwest Independent Transmission System Operator, Inc. submits tariff filing per 35.17(b): CapX-Bemidji-Minnkota Power Amendment to be effective 12/15/2010.

Filed Date: 01/18/2011.

Accession Number: 20110118-5157.

Comment Date: 5 p.m. Eastern Time on Tuesday, February 08, 2011.

Docket Numbers: ER11-2361-001.

Applicants: Midwest Independent Transmission System Operator, Inc.

Description: Midwest Independent Transmission System Operator, Inc. submits tariff filing per 35.17(b): CapX-Bemidji-MN Power Amendment to be effective 12/15/2010.

Filed Date: 01/18/2011.

Accession Number: 20110118-5184.

Comment Date: 5 p.m. Eastern Time on Tuesday, February 08, 2011.

Docket Numbers: ER11-2421-001.

Applicants: Public Service Company of New Hampshire.

Description: Public Service Company of New Hampshire submits tariff filing per 35.17(b): Errata PSNH and Pinetree IA-PSNH-01 IA to be effective 1/1/2011.

Filed Date: 01/18/2011.

Accession Number: 20110118-5045.

Comment Date: 5 p.m. Eastern Time on Tuesday, February 08, 2011.

Docket Numbers: ER11-2517-001.

Applicants: South Carolina Electric & Gas Transmission.

Description: South Carolina Electric & Gas Transmission submits tariff filing per 35: Compliance filing for Section 4.2 OASIS to be effective 1/13/2011.

Filed Date: 01/13/2011.

Accession Number: 20110113-5030.

Comment Date: 5 p.m. Eastern Time on Thursday, February 03, 2011.

Docket Numbers: ER10-2531-002.

Applicants: Cedar Creek Wind Energy, LLC.

Description: Cedar Creek Wind Energy, LLC's Notice of Non-Material Change in Status.

Filed Date: 01/18/2011.

Accession Number: 20110118-5236.

Comment Date: 5 p.m. Eastern Time on Tuesday, February 08, 2011.

Docket Numbers: ER11-2675-000.

Applicants: Windhorse Energy, LLC.

Description: Windhorse Energy, LLC submits notice of cancellation of its FERC Electric Tariff, Original Volume 1 etc.

Filed Date: 01/12/2011.

Accession Number: 20110113-0201.

Comment Date: 5 p.m. Eastern Time on Wednesday, February 02, 2011.

Docket Numbers: ER11-2676-000.

Applicants: Windhorse Energy, Inc.

Description: Windhorse Energy, Inc submits a notice of cancellation.

Filed Date: 01/12/2011.

Accession Number: 20110113-0202.

Comment Date: 5 p.m. Eastern Time on Wednesday, February 02, 2011.

Docket Numbers: ER11-2691-000.

Applicants: Pilot Power Group, Inc.

Description: Pilot Power Group, Inc. submits tariff filing per 35.1: PPG Tariff to be effective 1/17/2011.

Filed Date: 01/18/2011.

Accession Number: 20110118-5042.

Comment Date: 5 p.m. Eastern Time on Tuesday, February 08, 2011.

Docket Numbers: ER11-2692-000.

Applicants: ASC Energy Services, Inc.

Description: ASC Energy Services, Inc. submits tariff filing per 35.12: Market-Based Rate Initial Tariff Baseline to be effective 3/20/2011.

Filed Date: 01/18/2011.

Accession Number: 20110118-5132.

Comment Date: 5 p.m. Eastern Time on Tuesday, February 08, 2011.

Docket Numbers: ER11-2693-000.

Applicants: Midwest Independent Transmission System Operator, Inc.

Description: Midwest Independent Transmission System Operator, Inc. submits tariff filing per 35.13(a)(2)(iii: J102 GIA filing to be effective 1/19/2011.

Filed Date: 01/18/2011.

Accession Number: 20110118-5133.

Comment Date: 5 p.m. Eastern Time on Tuesday, February 08, 2011.

Docket Numbers: ER11-2695-000.

Applicants: Wisconsin Power and Light Company.

Description: Wisconsin Power and Light Company submits tariff filing per 35.13(a)(2)(iii: WPL Changes in Depreciation Rates for Wholesale Production Service to be effective 3/31/2011.

Filed Date: 01/18/2011.

Accession Number: 20110118-5155.

Comment Date: 5 p.m. Eastern Time on Tuesday, February 08, 2011.

Take notice that the Commission received the following land acquisition reports:

Docket Numbers: LA10-4-000.

Applicants: Indigo Generation LLC, Larkspur Energy LLC; Wildflower Energy LP.

Description: Report of Indigo Generation LLC, et al.

Filed Date: 01/14/2011.

Accession Number: 20110114-5259.

Comment Date: 5 p.m. Eastern Time on Friday, February 04, 2011.

Take notice that the Commission received the following public utility holding company filings:

Docket Numbers: PH11-11-000.

Applicants: New Jersey Resources Corporation.

Description: Notice of Material Change in Facts and FERC-65A Exemption Notification of New Jersey Resources Corporation.

Filed Date: 01/18/2011.

Accession Number: 20110118-5228.

Comment Date: 5 p.m. Eastern Time on Tuesday, February 08, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-1491 Filed 1-24-11; 8:45 am]

BILLING CODE 6717-01-P